DEPARTMENT OF THE INTERIOR

Fish and Wildlife Service

[FWS-HQ-IA-2013-N111; FXIA16710900000P5-123-FF09A30000]

Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act (ESA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the Marine Mammal Protection Act (MMPA), as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
229051 | David Reinke | 74 FR 58977; November 16, 2009 | April 4, 2013.
29819A | U.S. Fish and Wildlife Service | 76 FR 10623; February 25, 2011 | May 17, 2012.
52995A | Topeka Zoological Park | 77 FR 298; January 4, 2012 | August 15, 2012.
60276A | Hatada Enterprises, Inc. | 77 FR 298; January 4, 2012 | August 31, 2012.
053952 | James Whipple & Nancy Nunke | 77 FR 9687; February 17, 2012 | July 11, 2012.
209126 | Zoo of Acadiana, L.L.C | 77 FR 15383; March 15, 2012 | May 4, 2012.
66629A | Forest Land L.L.C | 77 FR 15383; March 15, 2012 | May 7, 2012.
007870 | Smithsonian National Zoological Park | 77 FR 15383; March 15, 2012 | September 27, 2012.
67611A | Harkey Ranch | 77 FR 17494; March 26, 2012 | May 2, 2012.
726004 | Earth Promise, Inc | 77 FR 17494; March 26, 2012 | May 2, 2012.
67609A | Georgia Aquarium | 77 FR 17494; March 26, 2012 | May 2, 2012.
819300 | Jay Russo | 77 FR 17494; March 26, 2012 | May 2, 2012.
67603A | James Thompson | 77 FR 17494; March 26, 2012 | May 2, 2012.
67606A | Dakota Resources, Inc | 77 FR 17494; March 26, 2012 | May 4, 2012.
67542A | Michelle Crawford | 77 FR 17494; March 26, 2012 | May 4, 2012.
67605A | Dakota Resources, Inc | 77 FR 17494; March 26, 2012 | May 4, 2012.
195196 | Lionshare Farm Zoological LLC | 77 FR 17494; March 26, 2012 | May 4, 2012.
67541A | Michelle Crawford | 77 FR 17494; March 26, 2012 | May 4, 2012.
671151 | Maryland Zoo in Baltimore | 77 FR 19311; March 30, 2012 | May 4, 2012.
679557 | North Carolina Zoological Park | 77 FR 19311; March 30, 2012 | May 4, 2012.
189854 | Northeastern Wisconsin Zoo | 77 FR 19311; March 30, 2012 | May 4, 2012.
69947A | Bruce Fairchild | 77 FR 19311; March 30, 2012 | May 9, 2012.
66619A | Fallow Creek Ranch | 77 FR 19311; March 30, 2012 | May 9, 2012.
69566A | Hacienda Yturria LLC | 77 FR 19311; March 30, 2012 | May 9, 2012.
69142A | Los Senderos Ranch | 77 FR 19311; March 30, 2012 | May 9, 2012.
67412A | NNNN Operations LLC | 77 FR 19311; March 30, 2012 | May 9, 2012.
69143A | Wilco Ranch, LP | 77 FR 19311; March 30, 2012 | May 9, 2012.
69946A | Bruce Fairchild | 77 FR 19311; March 30, 2012 | May 24, 2012.
66618A | Fallow Creek Ranch | 77 FR 19311; March 30, 2012 | May 24, 2012.
69568A | Hacienda Yturria LLC | 77 FR 19311; March 30, 2012 | May 24, 2012.
69141A | Los Senderos Ranch | 77 FR 19311; March 30, 2012 | May 24, 2012.
67414A | NNNN Operations LLC | 77 FR 19311; March 30, 2012 | May 24, 2012.
69144A | Wilco Ranch, LP | 77 FR 19311; March 30, 2012 | May 24, 2012.
685135 | Bramble Park Zoo | 77 FR 20838; April 6, 2012 | May 8, 2012.
69093A | Friedel Ranch | 77 FR 20838; April 6, 2012 | May 8, 2012.
70470A | Lucky 7 Exotics Ranch | 77 FR 20838; April 6, 2012 | May 8, 2012.
69574A | Preserve II P.O.A | 77 FR 20838; April 6, 2012 | May 8, 2012.
676508 | Six Flags Discovery Kingdom | 77 FR 20838; April 6, 2012 | May 8, 2012.
70466A | Lucky 7 Exotics Ranch | 77 FR 20838; April 6, 2012 | May 24, 2012.
65826A | Preserve II P.O.A | 77 FR 20838; April 6, 2012 | May 24, 2012.
71315A | Arizona Tortoise Compound | 77 FR 24510; April 24, 2012 | May 31, 2012.
680316 | Little Rock Zoological Gardens | 77 FR 24510; April 24, 2012 | May 31, 2012.
187257 | Eric Meffre | 77 FR 24510; April 24, 2012 | May 31, 2012.
71633A | Edward Merritt | 77 FR 24510; April 24, 2012 | May 31, 2012.
761357 | Racine Zoological Society | 77 FR 24510; April 24, 2012 | May 31, 2012.
756101 | Rare Species Conservatory Foundation | 77 FR 24510; April 24, 2012 | May 31, 2012.
88938A | Rhodes Brothers Taxidermy | 78 FR 12777; February 25, 2013 | April 24, 2013.
99723A | Coll John | 78 FR 17711; March 22, 2013 | April 23, 2013.
99724A | Montague James | 78 FR 17711; March 22, 2013 | April 23, 2013.
97814A | Michael Couch | 78 FR 17711; March 22, 2013 | April 23, 2013.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2013-11052 Filed 5-8-13; 8:45 am]

BILLING CODE 4310-55-P